DEPARTMENT OF COMMERCE

Foreign-Trade Zones Board

[Docket 45-99]

Foreign-Trade Zone 27—Boston, MA; Application for Subzone Status, J. Baker, Inc. (Distribution of Apparel, Footwear and Accessories), Canton, MA; Amendment of Application

Notice is hereby given that the application of the Massachusetts Port Authority, grantee of FTZ 27, requesting authority for special-purpose subzone status for the apparel, footwear and accessories distribution facility of J. Baker, Inc. (J. Baker), has been amended to include an additional site at 120 Shawmut Road (67,200 sq. ft.), Canton, Massachusetts.

The application otherwise remains unchanged.

The comment period is reopened to August 10, 2000.

Dated: June 29, 2000.
Dennis Puccinelli,
Acting Executive Secretary.

[FR Doc. 00-17388 Filed 7-10-00; 8:45 am]

BILLING CODE 3510-DS-P